FEDERAL MEDIATION AND CONCILIATION SERVICE

Privacy Act of 1974; System of Records

AGENCY: Federal Mediation and Conciliation Service.

ACTION: Notice of a new system of records.

SUMMARY: The Federal Mediation and Conciliation Service (FMCS) uses this system to collect information to match FMCS employees with appropriate developmental resources. The information collected is analyzed and used to determine training modalities, mentors, or involvement in projects requiring special skills.

DATES: This system of records will be effective without further notice on July 29, 2024 unless otherwise revised pursuant to comments received. Comments must be received on or before July 29, 2024.

ADDRESSES: You may send comments, identified by FMCS-0009 by any of the following methods:

• Mail: Office of General Counsel, 250 E Street SW Washington, DC 20427.

• Email: register@fmcs.gov. Include FMCS-0009 on the subject line of the message.

FOR FURTHER INFORMATION CONTACT: Anna Davis, General Counsel, at adavis@fmcs.gov or 202-606-3737.

SUPPLEMENTARY INFORMATION: The system collects information to match employees with individual mediator/mentor matching tools, agency-wide training needs assessment, class mentor selections, Conflict Management Professional program applications, and the Mediator Skills Survey. The system will use Microsoft Forms, Microsoft SharePoint, and Survey Monkey to collect information from FMCS employees.

SYSTEM NAME AND NUMBER:

FMCS-0009 Internal Assessment Records.

SECURITY CLASSIFICATION:

Unclassified.

SYSTEM LOCATION:

Federal Mediation and Conciliation Service, 250 E Street SW, Washington, DC 20427.

SYSTEM MANAGER(S):

Heather Brown, Chief Learning Officer, email hbrown@fmcs.gov, call (202) 379-8542, or send mail to Federal Mediation and Conciliation Service, 250 E Street Southwest, Washington, DC 20427, Attn: Heather Brown.

AUTHORITY FOR MAINTENANCE OF THE SYSTEM:

Federal Mediation and Conciliation Service, 29 U.S.C. 172, et seq., and Departmental Regulations, 5 U.S.C. 301.

PURPOSE(S) OF THE SYSTEM:

The records in this system are used to match employees with the appropriate developmental resources in alignment with three of the four Strategic Goals in FMCS's Four Year Strategic Plan 2022-2026. Three of the Strategic Goals are: (1) Efficiently provide top-tier conflict management and prevention services; (2) Increase agency-wide application and effectiveness of evidence-based decision-making; and (4) Prioritize lifelong learning in support of agency mission and individual professional development. The records collected is analyzed and used to determine training modalities, mentors, or involvement in projects requiring special skills.

CATEGORIES OF INDIVIDUALS COVERED BY THE SYSTEM:

The categories of individuals covered in the system are FMCS employees.

CATEGORIES OF RECORDS IN THE SYSTEM:

The categories of records maintained in the system include names, email addresses, and other information related to professional capabilities, desired or needed skills, and general preferences.

RECORD SOURCE CATEGORIES:

Information in this system of records is provided by FMCS employees.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FMCS as a routine use pursuant to 5 U.S.C. 552a(b)(3) as follows:

(a) To disclose pertinent information to the appropriate Federal, State, or local agency responsible for investigating, prosecuting, enforcing, or implementing a statute, rule regulation or order where the record, either alone or in conjunction with other information creates an indication of a violation or potential violation of civil or criminal laws or regulations.

(b) To disclose information to contractors, grantees, experts, consultants, detailees, and other non-Government employees performing or working on a contract, service, or other assignment for the agency when necessary to accompany an agency function related to this system of records.

(c) To officials of labor organizations and employers receiving services pursuant to 29 U.S.C. 172, et seq.

(d) To officials of labor organizations and Federal agencies recognized under 5 U.S.C. chapter 71 upon receipt of a formal request and in accordance with the conditions of 5 U.S.C. 7114 when relevant and necessary to their duties of exclusive representation concerning personnel policies, practices, and matters affecting working conditions.

(e) To disclose information to a Member of Congress or a congressional office in response to an inquiry made on behalf of, and at the request of, an individual who is the subject of the record.

(f) In an appropriate proceeding before a court, grand jury, or administrative or adjudicative body or official, when FMCS or other Agency representing FMCS determines the records are relevant and necessary to the proceeding; or in an appropriate proceeding before an administrative or adjudicative body when the adjudicator determines the records to be relevant to the proceeding.

(g) To the Department of Justice, including Offices of the U.S. Attorneys, or another Federal agency representing FMCS in pending or potential litigation or proceedings before any court, adjudicative, or administrative body. Such disclosure is permitted only when it is relevant and necessary to the litigation or proceeding, and one of the following is a party to the litigation or has an interest in such litigation:

(1) FMCS, or any component thereof;

(2) Any employee or former employee of FMCS in their official capacity;

(3) Any employee or former employee of FMCS in their capacity where the Department of Justice or FMCS has agreed to represent the employee;

(4) The United States, a Federal agency, or another party in litigation before a court, adjudicative, or administrative body, upon the FMCS General Counsel's approval, pursuant to 5 CFR part 295 or otherwise.

(h) To any agency, organization, or person for the purposes of performing audit or oversight operations related to the operation of this system of records or for Federal ethics compliance purposes as authorized by law, but only information necessary and relevant to such audit or oversight function.

(i) To disclose data or information to other Federal agencies, educational institutions, or FMCS clients who collaborate with FMCS to provide research or statistical information, services, or training concerning conflict management.

(j) To appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(k) To another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(l) To disclose information to the National Archives and Records Administration (NARA) or the General Services Administration in records management inspections conducted under authority of 44 U.S.C. 2904 and 2906.

(m) To a former employee of the Agency for purposes of responding to an official inquiry by a Federal, State, or local government entity or professional licensing authority, in accordance with applicable Agency regulations; or facilitating communications with a former employee that may be necessary for personnel-related or other official purposes where the Agency requires information and/or consultation assistance from the former employee regarding a matter within that person's former area of responsibility.

(n) To the Government Accountability Office (GAO) for oversight purposes; to the Department of Justice (DOJ) to obtain that department's adv(ice regarding disclosure obligations under the Freedom of Information Act (FOIA); or to the Office of Management and Budget (OMB) to obtain that office's advice regarding obligations under the Privacy Act.

(o) To disclose information to the Office of Personnel Management (OPM) and to the Equal Employment Opportunity Commission (EEOC) to respond to data calls and reports about career development and training opportunities, number of employees who use it, and other information or requests.

POLICIES AND PRACTICES FOR STORAGE OF RECORDS:

These records are maintained electronically, and data collected is accessed through agency internal drives which require a username and password.

POLICIES AND PRACTICES FOR RETRIEVAL OF RECORDS:

Records are retrieved by the name or other programmatic identifier such as a specific interest, skill, or other agency needs.

POLICIES AND PRACTICES FOR RETENTION AND DISPOSAL OF RECORDS:

All records are retained and disposed of in accordance with General Records Schedule 6.1, issued by the National Archives and Records Administration (NARA).

ADMINSTRATIVE, TECHNICAL, AND PHYSICAL SAFEGUARDS:

Electronic records are accessed on FMCS's internal drives and through web browsers to the internet that all require a username and password for login, are safeguarded in a secured environment, and are maintained in a secure, password-protected electronic system that utilize commensurate safeguards that may include firewalls, intrusion detection and prevention systems, and role-based access controls. All records are protected from unauthorized access through appropriate administrative, operational, and technical safeguards. These safeguards include restricting access to authorized personnel who have a “need to know” and password protection identification features.

RECORD ACCESS PROCEDURES:

Individuals must provide the following information for their records to be located and identified: (1) Full name, (2) Address, and (3) A reasonably identifying description of the record content requested. Requests can be submitted via fmcs.gov/foia/,via email to privacy@fmcs.gov, or via mail to the Privacy Office at FMCS 250 E Street SW Washington, DC 20427. See 29 CFR 1410.3.

CONTESTING RECORDS PROCEDURES:

Requests for correction or amendment of records, on how to contest the content of any records. Privacy Act requests to amend or correct records may be submitted to the Privacy Office at privacy@fmcs.gov or via mail to the Privacy Office at FMCS 250 E Street, SW Washington, DC 20427. Also, see https://www.fmcs.gov/privacy-policy/. See 29 CFR 1410.6.

NOTIFICATION PROCEDURES:

See 29 CFR 1410.3(a), Individual access requests.

EXEMPTIONS PROMULGATED FOR THE SYSTEM:

None.

HISTORY:

None.

Dated: May 21, 2024.
Alisa Zimmerman,
Deputy General Counsel, Federal Mediation and Conciliation Service.

[FR Doc. 2024-14239 Filed 6-27-24; 8:45 am]

BILLING CODE 6732-01-P